DEPARTMENT OF AGRICULTURE

Forest Service

National Urban and Community Forestry Advisory Council; Meeting

AGENCY: Forest Service, USDA.

ACTION: Notice of meeting.

SUMMARY: The National Urban and Community Forestry Advisory Council will meet in Rapid City, South Dakota, June 14-16, 2001. The purpose of the meeting is to discuss emerging issues in urban and community forestry.

DATES: The meeting will be held June 14-16, 2001. A tour of local projects will be held on June 14 from 9 a.m. to 5 p.m.

ADDRESSES: The meeting will be held at the Hotel Alex Johnson, 523 Sixth Street, Rapid City, South Dakota. Individuals, who wish to speak at the meeting or to propose agenda items, must send their names and proposals to Suzanne M. del Villar, Executive Assistant, National Urban and Community Forestry Advisory Council, 20628 Diane Drive, Sonora, California 95370. Individuals may fax their names and proposed agenda items to (209) 536-9089.

FOR FURTHER INFORMATION CONTACT: Suzanne M. del Villar, Cooperative Forestry Staff, (209) 536-9201.

SUPPLEMENTARY INFORMATION: The Challenge Cost-Share Grant categories, identified by the Council, are advertised annually to solicit proposals for projects to advance the knowledge of, and promote interest in, urban and community forestry. Pursuant to 5 U.S.C. 552b(c)(9)(B), the meeting will be closed from approximately 8:30 a.m. to 10:30 a.m. on June 16, in order for the Council to determine the categories for the 2002 Challenge Cost-Share grant program. Otherwise, the meeting is open to the public.

Council discussion is limited to Forest Service staff and Council members, however, persons who wish to bring urban and community forestry matters to the attention of the Council may file written statements with the Council staff before or after the meeting. Public input sessions will be provided. This notice is being provided less than 15 days prior to the meeting because of administrative delays in authorizing closure of a portion of the meeting.

Dated: June 11, 2001.
Ann M. Veneman,
Secretary, Department of Agriculture.

[FR Doc. 01-15162 Filed 6-12-01; 2:26 pm]

BILLING CODE 3410-11-P